DEPARTMENT OF ENERGY

Federal Energy Regulatory Commission

[Docket No. PR15-26-000]

Enterprise Texas Pipeline LLC; Notice of Informal Settlement Conference

Take notice that an informal settlement conference will be convened in the above-captioned proceeding on February 24, 2016, at 10:00 a.m. (EDT), in a room to be designated at the offices of the Federal Energy Regulatory Commission, 888 First Street NE., Washington, DC 20426, for the purpose of exploring the possible settlement of the above-referenced docket.

At the conference, Enterprise Texas Pipeline LLC should be prepared to provide, as necessary, additional support for its position.

FERC conferences are accessible under section 508 of the Rehabilitation Act of 1973. For accessibility accommodations please send an email to accessibility@ferc.gov or call toll free (866) 208-3372 (voice) or 202-502-8659 (TTY), or send a fax to 202-208-2106 with the required accommodations.

All interested parties and staff are permitted to attend. For further information please contact David Tishman at (202) 502-8515 or email at david.tishman@ferc.gov or Seong-Kook Berry at (202) 502-6544 or email at seong-kook.berry@ferc.gov.

Dated: February 9, 2016.
Nathaniel J. Davis, Sr.,
Deputy Secretary.

[FR Doc. 2016-03023 Filed 2-12-16; 8:45 am]

BILLING CODE 6717-01-P